FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
019355NF | ABAD Air, Inc., 10411 NW. 28th Street, Miami, FL 33172 | June 21, 2009.
018694NF | Global Parcel System LLC, 8304 Northwest 30th Terrace, Miami, FL 33122 | April 11, 2009.
020668N | Valcad Construction, LLC, 3211 W. Northwest Highway, Suite 200, Dallas, TX 75220 | July 22, 2009.

Sandra L. Kusumoto,
Director, Bureau of Certification and Licensing.

[FR Doc. E9-21326 Filed 9-3-09; 8:45 am]

BILLING CODE 6730-01-P